DEPARTMENT OF LABOR

Employment and Training Administration

[TA-W-62,004]

Schrader Bridgeport, Monroe, NC; Notice of Termination of Investigation

Pursuant to Section 221 of the Trade Act of 1974, as amended, an investigation was initiated on August 17, 2007 in response to a worker petition filed by a company official on behalf of workers of Schrader Bridgeport, Monroe, North Carolina.

The petitioner has requested that the petition be withdrawn. Consequently, the investigation has been terminated.

Signed at Washington, DC this 31st day of August 2007.
Linda G. Poole,
Certifying Officer, Division of Trade Adjustment Assistance.

[FR Doc. E7-17888 Filed 9-10-07; 8:45 am]

BILLING CODE 4510-FN-P